DEPARTMENT OF DEFENSE

Department of the Army

Notice of Intended Disinterment

AGENCY: Department of the Army, DoD.

ACTION: Notice of intended disinterment.

SUMMARY: Army National Military Cemeteries (ANMC) is honoring the requests of four families to disinter the human remains of four Native American students from the Carlisle Barracks Post Cemetery, Carlisle, Pennsylvania. The decedent names are Little Plume (aka Hayes Vanderbilt Friday), George Ell (aka George Eli), Herbert Little Hawk (aka Herbert J. Littlehawk), and Her Pipe Woman (aka as Dora Brave Bull). These students died in the 1880s and 1890s while attending the Carlisle Indian Industrial School. At the request of the closest living relative for each decedent, ANMC will disinter, transfer custody, transport, and reinter the remains in private cemeteries chosen by the families. This disinterment will be conducted in accordance with Army Regulation 210-190. This is not a Native American Graves Protection and Repatriation Act (NAGPRA) action because the remains are not part of a collection as they are interred in graves that are individually marked at the Carlisle Barracks Post Cemetery.

DATES: The disinterment is scheduled to begin on June 14, 2018. Transportation to and re-interment in private cemeteries will take place as soon as practical after the disinterment. If other living relatives object to the disinterment of these remains, please provide written objection to Lieutenant Colonel Brent Kauffman at the email address listed below prior to June 7, 2018. Such objections may delay the disinterment for the decedent in question.

ADDRESSES: Objections from family members and public comments can be mailed to Lieutenant Colonel Brent Kauffman, ANMC Project Manager, 1 Memorial Avenue, Arlington National Cemetery, Arlington, VA 22211 or emailed to usarmy.pentagon.hqda-anmc.mbx.accountability-coe@mail.mil (preferred).

FOR FURTHER INFORMATION CONTACT: Lieutenant Colonel Brent Kauffman, ANMC Project Manager at the email address listed above.

SUPPLEMENTARY INFORMATION: Additional information related to Native Americans buried at the Carlisle Barracks Post Cemetery can be found at http://www.belvoir.army.mil/ANMC/ReturnOfNativeAmericanRemains.asp.

Brenda S. Bowen,
Army Federal Register Liaison Officer.

[FR Doc. 2018-10772 Filed 5-18-18; 8:45 am]

BILLING CODE 5001-03-P